DEPARTMENT OF LABOR

Employment and Training Administration

[TA-W-40,268]

Great Lakes Chemical Corporation, Nitro, WV; Notice of Termination of Investigation

Pursuant to section 221 of the Trade Act of 1974, an investigation was initiated on October 29, 2001, in response to a petition filed by a company official on behalf of workers at Great Lakes Chemical Corporation, Nitro, West Virginia.

The company official submitting the petition has requested that the petition be withdrawn. Consequently, further investigation in this case would serve no purpose, and the investigation has been terminated.

Signed in Washington, DC this 2nd day of November, 2001.
Linda G. Poole,
Certifying Officer, Division of Trade Adjustment Assistance.

[FR Doc. 01-28988 Filed 11-19-01; 8:45 am]

BILLING CODE 4510-30-M